FEDERAL COMMUNICATIONS COMMISSION

47 CFR Parts 15 and 74

[OET Docket Nos. 14-165, 14-166 and 12-268; Report No. 3037]

Petitions for Reconsideration of Action in a Rulemaking Proceeding; Correction

AGENCY: Federal Communications Commission.

ACTION: Petition for reconsideration; correction.

SUMMARY: On February 12, 2016, the Commission published a summary of Commission's document, Report No. 3037, 81 FR 7491, announcing that oppositions to Petitions for Reconsideration must been filed by February 29, 2016, and replies to an opposition must be filed on or before March 25, 2016. This document corrects the due date for replies to an opposition.

DATES: Replies to an opposition to the petition for reconsideration published February 12, 2016 (81 FR 7491) must be filed on or before March 10, 2016.

FOR FURTHER INFORMATION CONTACT: Hugh Van Tuyl, Policy and Rules Division, Office of Engineering and Technology, (202) 418-7506, email: Hugh.VanTuyl@fcc.gov. Paul Murray, Policy and Rules Division, Office of Engineering and Technology, (202) 418-0688, email: Paul.Murray@fcc.gov.

Correction

In the Federal Register of February 12, 2016, in FR Doc. 2016-02899, on page 7491, in the second column, correct the DATES caption to read:

DATES: Oppositions to Petitions for Reconsideration must been filed by February 29, 2016. Replies to an opposition must be filed on or before March 10, 2016.

Federal Communications Commission.
Marlene H. Dortch,
Secretary.

[FR Doc. 2016-04521 Filed 3-2-16; 8:45 am]

BILLING CODE 6712-01-P